DEPARTMENT OF TRANSPORTATION

Federal Aviation Administration

Receipt of Noise Compatibility Program and Request for Review for Philadelphia International Airport, Philadelphia, PA

AGENCY: Federal Aviation Administration (FAA).

ACTION: Notice.

SUMMARY: The Federal Aviation Administration (FAA) announces that it is reviewing a proposed noise compatibility program that was submitted for Philadelphia International Airport under the provisions of 49 U.S.C. 47504 (the Aviation Safety and Noise Abatement Act, hereinafter referred to as “the Act”) and 14 Code of Federal Regulations (CFR) Part 150 (hereinafter referred to as “Part 150”) by the City of Philadelphia. This program was submitted subsequent to a determination by FAA that associated noise exposure maps submitted under Part 150 for Philadelphia International Airport were in compliance with applicable requirements, effective June 1, 2010, and published in the Federal Register at 75 FR 44046 (July 27, 2010). The proposed noise compatibility program will be approved or disapproved on or before July 17, 2012.

DATES: Effective Date: The effective date of the start of FAA's review of this noise compatibility program is January 20, 2012. The public comment period ends March 19, 2012.

FOR FURTHER INFORMATION CONTACT: Susan L. McDonald, Environmental Protection Specialist, Federal Aviation Administration, Harrisburg Airports District Office, 3905 Hartzdale Drive, Suite 508, Camp Hill, PA 17011, email: susan.mcdonald@faa.gov, Telephone: (717) 730-2841. Comments on the proposed noise compatibility program should also be submitted to the above office.

SUPPLEMENTARY INFORMATION: This notice announces that the FAA is reviewing the proposed noise compatibility program for the Philadelphia International Airport, Philadelphia, PA, which will be approved or disapproved on or before July 17, 2012. This notice also announces the availability of the program for public review and comment directly to the FAA.

An airport operator who has submitted noise exposure maps that are found by FAA to be in compliance with the requirements of Part 150, promulgated pursuant to the Act, may submit a noise compatibility program for FAA approval which sets forth the measures the operator has taken or proposes to reduce existing non-compatible uses and prevent the introduction of additional non-compatible uses.

The FAA has formally received the proposed noise compatibility program for the Philadelphia International Airport, effective on January 20, 2012. The airport operator has requested that the FAA review this material and that the noise mitigation measure, to be implemented jointly by the airport, be approved as a noise compatibility program under Section 47504 of the Act.

Preliminary review of the submitted material indicates that it conforms to Part 150 requirements for the submittal of noise compatibility programs, but that further review will be necessary prior to approval or disapproval of the program. The formal review period, limited by law to a maximum of 180 days, will be completed on or before July 17, 2012. The FAA's detailed evaluation will be conducted under the provisions of Section 150.33 of Part 150. The primary considerations in the evaluation process are whether the proposed measure may reduce the level of aviation safety or create an undue burden on interstate or foreign commerce, and whether it is reasonably consistent with obtaining the goal of reducing existing non-compatible land uses and preventing the introduction of additional non-compatible land uses.

Interested persons are invited to comment on the proposed noise compatibility program, with specific reference to these factors. All comments relating to these factors, other than those properly addressed to local land use authorities, will be considered by the FAA to the extent practicable. Copies of the noise exposure maps and the proposed noise compatibility program are available for examination by appointment at the following locations:

Philadelphia International Airport, Office of the Noise Abatement Program Manager, located at 2801 Island Avenue, Suite 13, Philadelphia, PA 19153, Monday-Friday 8 a.m.-4 p.m., and Federal Aviation Administration, Harrisburg Airports District Office, 3905 Hartzdale Drive, Suite 508, Camp Hill, PA 17011, Monday 8 a.m.-4:30 p.m.

Questions may be directed to the individual named above under the heading FOR FURTHER INFORMATION CONTACT.

Issued in Camp Hill, Pennsylvania, January 13, 2012.
Lori K. Pagnanelli,
Manager, Harrisburg Airports District Office.

[FR Doc. 2012-1206 Filed 1-23-12; 8:45 am]

BILLING CODE 4910-13-P